PEACE CORPS

Proposed Information Collection Requests

AGENCY: Peace Corps.

ACTION: Notice of public use form review request to the Office of Management and Budget (OMB Control Number 0420-0002).

SUMMARY: Pursuant to the Paperwork Reduction Act of 1981 (44 U.S.C. Chapter 35), the Peace Corps has submitted to the Office of Management and Budget a request for approval of information collections, OMB Control Number 0420-0002, the Peace Corps Week Survey Questionnaire. The purpose of this notice is to allow for public comments on whether the proposed collection of information is necessary for the proper performance of the functions of the Peace Corps, including whether their information will have practical use; the accuracy of the agency's estimate of the burden of the proposed collections information, including the validity of the methodology and assumptions used; ways to enhance the quality, utility and the clarity of the information to be collected; and, ways to minimize the burden of the collection of information on those who are to respond, including through the use of automated collection techniques, when appropriate, and other forms of information technology. A copy of the information collection may be obtained from Agnes Ousley, Office of Domestic Programs, Peace Corps, 1111 20th Street, NW., Room 2163, Washington, DC 20526. Ms Ousley may be contacted by telephone at 202-692-1429 or 800-424-8580, Peace Corps Headquarters, ext 1429, by e-mail at aousley@peacecorps.gov. Comments on the form should also be addressed to the attention of Ms. Ousley by September 10, 2004.

Information Collection Abstract

Title: Peace Corps Week Survey Questionnaire.

Need For and Use of this Information: This collection of information is necessary because the Peace Corps' Office of Domestic Programs will use this information to determine how to better serve the needs of the participants. The information gathered will be used for the following purposes: programmatic improvements, to determine customer satisfaction, and to increase our awareness of participants' activities. Additionally, information regarding the activities and events sponsored by the participant's may be used in press releases on the Peace Corps' anniversary celebration. Finally, information regarding participants' activities will be disseminated to the Peace Corps 11 regional offices for press/public relations, and recruitment purposes.

Respondents: Returned Peace Corps Volunteers and family members of currently serving Peace Corps Volunteers.

Respondent's Obligation to Reply: Voluntary.

Burden on the Public:

a. Annual reporting burden: 2,500 hours.

b. Annual record keeping burden: 0.

c. Estimated average burden per response: 5 minutes.

d. Frequency of response: one time.

e. Estimated number of likely respondents: 2,500.

f. Estimated cost to respondents: $2.15.

Responses will be returned by postage-paid business reply card, fax, e-mail, and downloaded from the Peace Corps Web site: (www.peacecorps.gov).

This notice is being issued in Washington, DC on July 2, 2004.
Ed Anderson,
Chief Information Officer.

[FR Doc. 04-15668 Filed 7-9-04; 8:45 am]

BILLING CODE 6051-01-M